ENVIRONMENTAL PROTECTION AGENCY

40 CFR Part 63

[GA-112L-2004-1-FRL-7832-8]

Approval of Section 112(l) Authority for Hazardous Air Pollutants; Equivalency by Permit Provisions; National Emission Standards for Hazardous Air Pollutants From the Pulp and Paper Industry; State of Georgia

AGENCY: Environmental Protection Agency (EPA).

ACTION: Proposed rule.

SUMMARY: Pursuant to section 112(l) of the Clean Air Act (CAA), the Georgia Environmental Protection Division (GEPD) requested approval to implement and enforce State permit terms and conditions that substitute for the National Emission Standards for Hazardous Air Pollutants from the Pulp and Paper Industry. In the Rules section of this Federal Register, EPA is granting GEPD the authority to implement and enforce alternative requirements in the form of title V permit terms and conditions after EPA has approved the State's alternative requirements. A detailed rationale for this approval is set forth in the direct final rule. If no significant, or adverse comments are received, no further activity is contemplated. If EPA receives significant, or adverse comments, the direct final rule will be withdrawn and all public comments received will be addressed in a subsequent final rule based on this rule. The EPA will not institute a second comment period on this document. Any parties interested in commenting on this document should do so at this time.

DATES: Written comments must be received on or before November 23, 2004.

ADDRESSES: Comments may be submitted by mail to: Lee Page, Air Toxics Assessment and Implementation Section, Air Toxics and Monitoring Branch, Air, Pesticides and Toxics Management Division; U.S. Environmental Protection Agency Region 4; 61 Forsyth Street, SW., Atlanta, Georgia 30303-8960. Duplicate copies of all comments must also be submitted to Ron C. Methier, Chief, Air Protection Branch, Georgia Environmental Protection Division, 4244 International Parkway, Suite 120, Atlanta, Georgia 30354. Comments may also be submitted electronically, or through hand delivery/courier. Please follow the detailed instructions described in the direct final rule, SUPPLEMENTARY INFORMATION section [part (I)(B)(1)(i) through (iii)] which is published in the Rules section of this Federal Register.

FOR FURTHER INFORMATION CONTACT: Lee Page, Air Toxics Assessment and Implementation Section, Air Toxics and Monitoring Branch, Air, Pesticides and Toxics Management Division, Region 4, U.S. Environmental Protection Agency, 61 Forsyth Street, SW., Atlanta, Georgia 30303-8960. The telephone number is (404) 562-9141. Mr. Page can also be reached via electronic mail at page.lee@epa.gov.

SUPPLEMENTARY INFORMATION: For additional information see the direct final rule which is published in the Rules section of this Federal Register.

Dated: October 19, 2004.
J.I. Palmer, Jr.,
Regional Administrator, Region 4.

[FR Doc. 04-24410 Filed 11-1-04; 8:45 am]

BILLING CODE 6560-50-P